DEPARTMENT OF THE INTERIOR

National Park Service

[NPS-WASO-NRNHL-DTS#-30690; PPWOCRADI0, PCU00RP14.R50000]

National Register of Historic Places; Notification of Pending Nominations and Related Actions

AGENCY: National Park Service, Interior.

ACTION: Notice.

SUMMARY: The National Park Service is soliciting electronic comments on the significance of properties nominated before July 25, 2020, for listing or related actions in the National Register of Historic Places.

DATES: Comments should be submitted electronically by August 24, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before July 25, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

COLORADO

Boulder County

Buchan Cabin, 2386 Cty. Rd. 111, Eldora vicinity, SG100005521

CONNECTICUT

New Haven County

Darling, James Alexis, House, 1932 Litchfield Tpk. (CT 69), Woodbridge, SG100005527

MASSACHUSETTS

Hampden County

Moseley School, 25 Dartmouth St., Westfield, SG100005525

OHIO

Cuyahoga County

Downtown Lakewood Historic District, Detroit Ave., roughly bounded by Bunts Rd. and Hall Ave., plus Warren Rd., roughly bounded by Detroit Ave. and Franklin Blvd., Lakewood, SG100005539

Summit County

B.F. Goodrich Company Historic District, 520-540 South Main St; 115-123 West Bartges St., Akron, SG100005529

TEXAS

Bexar County

Milam, Ben, Statue, (Monuments and Buildings of the Texas Centennial MPS), 500 West Houston St., San Antonio, MP100005535

Comal County

Mission Valley School and Teacherage, 1135 Mission Valley Rd., New Braunfels, SG100005536

Pape-Borchers Homestead, 142 Hueco Springs Loop Rd., New Braunfels, SG100005537

Palo Pinto County

Mineral Wells Central Historic District, Roughly bounded by NW 9th St. NE 3rd Ave. SE 6th St., and NW 3rd Ave., Mineral Wells, SG100005524

Wichita County

Bailey-Moline-Filgo Building, 1000-1004 Indiana Ave., Wichita Falls, SG100005538

VIRGINIA

Bath County

T.C. Walker School, (Rosenwald Schools in Virginia MPS), 1633 TC Walker Rd. (Cty. Rd. 635), Millboro vicinity, MP100005532

Rockingham County

Deering Hall, 140 North Main St., Broadway, SG100005530

Additional documentation has been received for the following resources:

KENTUCKY

McCracken County

Tilghman, Augusta, High School (Additional Documentation), 401 Walter Jetton Blvd., Paducah, AD95000300

VIRGINIA

Lynchburg Independent City

Rivermont Historic District (Additional Documentation), Rivermont Ave., Lynchburg, AD03000224

Pyramid Motors (Additional Documentation), 405-407 Federal St., Lynchburg, AD07001140

Warren County

Sonner Hall (Additional Documentation), 3rd St., Front Royal, AD87000007

Authority: Section 60.13 of 36 CFR part 60.

Dated: July 28, 2020.
Sherry A. Frear,
Chief, National Register of Historic Places/National Historic Landmarks Program.

[FR Doc. 2020-17302 Filed 8-6-20; 8:45 am]

BILLING CODE 4312-52-P